DEPARTMENT OF COMMERCE

National Oceanic and Atmospheric Administration

RIN 0648-XF564

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, August 7 through Thursday, August 10, 2017.

ADDRESSES: The meeting will take place at the Marriott Plaza, located at 555 South Alamo Street, San Antonio, TX 78205; telephone: (210) 229-1000.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, August 7, 2017; 10:30 a.m.-5 p.m.

The Administrative/Budget Committee will review and approve the Final 2017 Budget Funding Report, and review of SOPPS guidance on Advisory Panel Appointments; and, the Education and Outreach Committee will review and discuss the technical committee report from their August 2017 meeting. After the lunch break, the Gulf SEDAR Committee will hold a discussion on the 2017 Extended Recreational Red Snapper Season; and review the SEDAR Assessment Schedule. The Sustainable Fisheries Committee will receive a presentation on the protocol for authorizing Sea Turtle Release Gear and review a discussion paper. This Committee will also receive updates on Lionfish Research, Actions and Efforts by Federal and State Agencies.

Tuesday, August 8, 2017; 8:30 a.m.-5 p.m.

The Reef Fish Management Committee will review and discuss taking final action on Framework Action—Greater Amberjack Annual Catch Limit (ACL) and Management Measures; discuss draft Amendment 42—Federal Reef Fish Headboard Survey Vessels and Final Action on Referendum Eligibility Requirements, and draft Amendment 41—Federal Charter-For-Hire Reef Fish Management Discussion and Final Action on Referendum Eligibility Requirements. The committee will receive a Review of the For-Hire Permit Moratorium and Transfers; discuss draft Framework Action to modify the Annual Catch Target (ACT) for Red Snapper Federal For-Hire and Private Angler Components; and receive a presentation on the Grouper-Tilefish Individual Fishing Quota (IFQ) Program 5-year review. The committee will end the day reviewing a revised options paper for Amendment 36B—Modifications to Commercial IFQ Programs and NMFS' response regarding referendum requirements for auctions and discuss the next steps for the Ad Hoc Red Snapper IFQ Advisory Panel.

Wednesday, August 9, 2017; 8:30 a.m.-5:30 p.m.

The Reef Fish Management Committee will reconvene and review options papers for Status Determination Criteria and Optimum Yield (OY) for Reef Fish Stocks, and draft documents on State Management of Recreational Red Snapper for Louisiana, Mississippi, and Alabama.

The Full Council will convene mid-morning (approximately 10:45 a.m.) with a call to order, announcements, introductions; adoption of agenda; and approval of minutes. The Council will review Exempted Fishing Permit (EFPs) Applications, and a summary of public comments; and, receive a presentation from Texas Law Enforcement. After lunch, the Council will receive public testimony from 1:30 p.m. until 5:30 p.m. on the following agenda items: Final Action on Framework Action—Greater Amberjack ACL and Management Measures; Final Action on Referendum Eligibility Requirements for Reef Fish Amendment 42—Reef Fish Management for Headboat Survey Vessels; and Final Action on Referendum Eligibility Requirements for Reef Fish Amendment 41—Allocation-Based Management for Federally Permitted Charter Vessels; and, open testimony on any other fishery issues or concerns.

Thursday, August 10, 2017; 8:30 a.m.-4 p.m.

The Council will receive reports from the following Management Committees: Reef Fish, Gulf SEDAR, Administrative/Budget, Sustainable Fisheries, and Outreach and Education. Upon returning from lunch, the Council will review and vote on Exempted Fishing Permit (EFP) Applications, if any; and receive updates from the South Atlantic Fishery Management Council, Gulf States Marine Fisheries Commission, U.S. Coast Guard, U.S. Fish and Wildlife Service, and the Department of State. Under Other Business, the Council will receive an update and next steps for the Generic For-Hire Electronic Reporting Amendment.

Meeting Adjourns

You may listen in to the August 2017 Council Meeting via webinar by registering at https://attendee.gotowebinar.com/register/2332013968662616323. After registering, you will receive a confirmation email containing information about joining the webinar.

The timing and order in which agenda items are addressed may change as required to effectively address the issue. The latest version will be posted on the Council's file server, which can be accessed by going to the Council's Web site at http://www.gulfcouncil.org and clicking on FTP Server under Quick Links. For meeting materials, select the “Briefing Books/Briefing Book 2017-08” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: July 19, 2017.
Tracey L. Thompson,
Acting Deputy Director, Office of Sustainable Fisheries, National Marine Fisheries Service.

[FR Doc. 2017-15492 Filed 7-21-17; 8:45 am]

BILLING CODE 3510-22-P